DEPARTMENT OF DEFENSE

Department of the Air Force

US Air Force Scientific Advisory Board Notice of Meeting

AGENCY: Department of the Air Force, U.S. Air Force Scientific Advisory Board.

ACTION: Notice.

SUMMARY: The Air Force Scientific Advisory Board (SAB) will meet on 10-11 Octtober 2007 at the SAF/AQ Conference and Innovation Center, 1560 Wilson Blvd., Rosslyn, VA. The purpose of the meeting is to hold the SAB Fall Board Meeting. The briefings and discussion will include presentations from senior Air Force leadership, leadership from the defense industry, and technology leaders from the other military branches. In addition, the Air Force Research Laboratory will be discussing the Focused Long Term Challenges (FLTC) and the critical technology areas for air, space and cyberspace dominance into the future.

Pursuant to 5 U.S.C. 552b, as amended and 41 CFR section 102-3.144, the Department of Defense has determined that the meeting shall be closed to the public. The Administrative Assistant to the Secretary of the Air Force, in consultation with the Office of the Air Force General Counsel, has determined in writing that the public interest requires that all sessions of this meeting be closed to the public because they will be concerned with matters listed in section 552b(c)(1), (4), and (9)(B) of Title 5 United States Code.

FOR FURTHER INFORMATION CONTACT: Lieutenant Colonel David J. Lucia, Executive Director, Air Force Scientific Advisory Board, 1180 Air Force Pentagon, Washington, DC 20330-1180, (703) 697-4811.

Bao-Anh Trinh,
Air Force Federal Register Liaison Officer.

[FR Doc. E7-18893 Filed 9-24-07; 8:45 am]

BILLING CODE 5001-05-P